DEPARTMENT OF LABOR

Employment and Training Administration

Workforce Investment Act; Native American Employment and Training Council

AGENCY: Employment and Training Administration, Labor.

ACTION: Notice of Meeting.

SUMMARY: Pursuant to Section 10(a)(2) of the Federal Advisory Committee Act (FACA) (Pub. L. 92-463), as amended, and Section 166(h)(4) of the Workforce Investment Act (WIA) [29 U.S.C. 2911(h)(4)], notice is hereby given of the next meeting of the Native American Employment and Training Council (NAETC), as constituted under WIA.

Time And Date: The meeting will begin at 9 a.m. Eastern Standard Time (EST) on Wednesday, February 28, 2007, and continue until 5 p.m. that day. The period from 3 p.m. to 5 p.m. on February 28, 2007, will be reserved for participation and presentation by members of the public. The meeting will reconvene at 9 a.m. EST on Thursday, March 1, 2007, and adjourn at approximately 5 p.m. on that day.

Place: All sessions will be held at the Wyndham Washington DC-Monticello West Room, 1400 M Street, NW., Washington, DC 20005.

Status: The meeting will be open to the public. Persons who need special accommodations should contact the Designated Federal Official (DFO), Mr. Craig Lewis, at (202) 693-3384 by February 22, 2007.

Matters To Be Considered: The formal agenda will focus on the following topics: (1) Presentation on the Employment and Training Administration's Workforce Innovation in Regional Economic Development initiative and other relevant issues; (2) NAETC election of officers; (3) Review of Program Year 2005 performance results; and (4) Work Group Reports and Recommendations.

FOR FURTHER INFORMATION CONTACT: Mr. Craig Lewis, DFO, Indian and Native American Programs, Employment and Training Administration, U.S. Department of Labor, Room S-4206, 200 Constitution Avenue, NW., Washington, DC 20210.

Telephone: (202) 693-3384 (VOICE) (this is not a toll-free number).

Signed at Washington, DC this 6th day of February, 2007.
Emily Stover DeRocco,
Assistant Secretary, Employment and Training Administration.

[FR Doc. E7-2282 Filed 2-9-07; 8:45 am]

BILLING CODE 4510-30-P